DEPARTMENT OF TRANSPORTATION

Federal Aviation Administration

14 CFR Part 39

[Docket No. 2000-NM-96-AD; Amendment 39-12025; AD 2000-24-18]

RIN 2120-AA64

Airworthiness Directives; Airbus Model A300 B2 and B4 Series Airplanes, and Model A300 B4-600, A300 B4-600R, and A300 F4-600R (A300-600) Series Airplanes

AGENCY: Federal Aviation Administration, DOT.

ACTION: Final rule.

SUMMARY: This amendment adopts a new airworthiness directive (AD), applicable to certain Airbus Model A300 B2 and B4 series airplanes, and Model A300-600 series airplanes, that requires repetitive inspections to detect chafing and the existence of repairs of the harness of the high-level sensor of the fuel surge tanks, and to detect chafe marks on the support canisters of the magnetic level indicators; and follow-on corrective actions, if necessary. This amendment also requires modification of the harness for the high-level sensor of the outer wing fuel tanks, which terminates certain repetitive inspections. This amendment is prompted by issuance of mandatory continuing airworthiness information by a foreign civil airworthiness authority. The actions specified by this AD are intended to prevent chafing of the harness of the high-level sensor, which could result in a short circuit and consequent fuel ignition source inside the outer wing fuel tanks.

DATES: Effective January 8, 2001.

The incorporation by reference of certain publications listed in the regulations is approved by the Director of the Federal Register as of January 8, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A300 B2 and B4 series airplanes, and Model A300 B4-600, A300 B4-600R, and A300 F4-600R (A300-600) series airplanes, was published in the Federal Register on June 13, 2000 (65 FR 37084). That action proposed to require repetitive inspections to detect chafing and the existence of repairs of the harness of the high-level sensor of the fuel surge tanks, and to detect chafe marks on the support canisters of the magnetic level indicators; and follow-on corrective actions, if necessary. That action also proposed to require modification of the harness for the high-level sensor of the outer wing fuel tanks, which would terminate certain repetitive inspections.

Clarification of Model Designation

Since the issuance of the proposed AD, the FAA has changed the manner in which it identifies the airplane models referred to as “Airbus Model A300 and A300-600 series airplanes” to reflect the model designation specified on the type certificate data sheet. This final rule has been revised to show the appropriate model designations for those airplanes.

Comments Received

Interested persons have been afforded an opportunity to participate in the making of this amendment. Due consideration has been given to the single comment received.

The commenter recommends that the FAA only mandate the inspection service bulletins, and not the modification service bulletins. The commenter is convinced that the inspections alone are sufficient to ensure safety.

The FAA does not concur with the commenter's request. The FAA is aware that the Direction Générale de l'Aviation Civile (DGAC), which is the airworthiness authority for France, did not mandate the modification in the French airworthiness directive that addresses the identified unsafe condition. However, as explained in the proposal, the FAA has determined that long-term continued operational safety will be better assured by design changes to remove the source of the problem, rather than by repetitive inspections. No additional data were submitted by the commenter that would cause the FAA to change its position in this regard. No change to the final rule is necessary.

Conclusion

After careful review of the available data, including the comment noted above, the FAA has determined that air safety and the public interest require the adoption of the rule with the change described previously. The FAA has determined that this change will neither increase the economic burden on any operator nor increase the scope of the AD.

Cost Impact

The FAA estimates that 37 airplanes of U.S. registry will be affected by this AD, that it will take approximately 1 work hour per airplane to accomplish the required inspections, and that the average labor rate is $60 per work hour. Based on these figures, the cost impact of the inspections required by this AD on U.S. operators is estimated to be $2,220, or $60 per airplane, per inspection cycle.

It will take approximately 1 work hour per airplane to accomplish the required modification, at an average labor rate of $60 per work hour. Based on these figures, the cost impact of the modification required by this AD on U.S. operators is estimated to be $2,220, or $60 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-24-18 Airbus Industrie: Amendment 39-12025. Docket 2000-NM-96-AD.

Applicability: Model A300 B2 and B4 series airplanes, and Model A300 B4-600, A300 B4-600R, and A300 F4-600R (A300-600) series airplanes; certificated in any category; except those airplanes on which Airbus Modification 04489 has been installed during production.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent chafing of the wire harnesses of the high-level sensors, which could result in a short circuit and consequent fuel ignition source inside the outer wing fuel tanks, accomplish the following:

Detailed Visual Inspection

(a) Within 500 flight hours after the effective date of this AD, perform a detailed visual inspection to detect chafing and the existence of repairs of the harness (cable) of the high-level sensor of the fuel surge tanks, and to detect chafe marks on the support canisters of the magnetic level indicators, in accordance with Airbus Service Bulletin A300-28-0077 (for Model A300 series airplanes) or A300-28-6062 (for Model A300-600 series airplanes), each dated July 19, 1999, as applicable.

(1) For airplanes on which modification of the harness in accordance with Airbus Service Bulletin A300-28-0058 (for Model A300 series airplanes) or A300-28-6020 (for Model A300-600 series airplanes), as applicable, HAS NOT been accomplished: Accomplish the requirements of paragraphs (a)(1)(i) and (a)(1)(ii) of this AD.

(i) Repeat the detailed visual inspection thereafter at intervals not to exceed 500 flight hours until the requirements of paragraph (a)(1)(ii) of this AD are accomplished. If any wire chafing, chafe mark, or existing repair is detected during any inspection, prior to further flight, determine the appropriate repair and/or condition of repair as specified in Inspection Table 1 of the Accomplishment Instructions of Airbus Service Bulletin A300-28-0077 or A300-28-6062, as applicable. At the times specified in Inspection Table I, accomplish corrective actions (e.g., temporary or permanent repairs, and follow-on inspections and repairs) in accordance with the applicable service bulletin. If any discrepancy is found during any follow-on inspection, prior to further flight, repair the discrepancy in accordance with the applicable service bulletin.

(ii) Within 18 months after the effective date of this AD, modify the harness of the high-level sensor in the outer wing fuel tanks in accordance with Airbus Service Bulletin A300-28-0058, Revision 02 (for Model A300 series airplanes), or A300-28-6020, Revision 01 (for Model A300-600 series airplanes), each dated September 28, 1999. Accomplishment of the modification terminates the 500-flight-hour repetitive inspection required by paragraph (a)(1) of this AD. However, if a temporary repair is installed, the 10,000-flight-hour detailed visual inspection specified in the follow-on corrective actions of Table 1 continues to be required by this AD.

(2) For airplanes on which modification of the harness in accordance with Airbus Service Bulletin A300-28-0058 (for Model A300 series airplanes) or A300-28-6020 (for Model A300-600 series airplanes), as applicable, HAS been accomplished: Accomplish the requirements of paragraph (a)(2)(i) or (a)(2)(ii), as applicable.

(i) If no wire chafing, chafe marks, or existing repairs are detected, no further action is required by this AD.

(ii) If any wire chafing, chafe mark, or existing repair is detected, prior to further flight, determine the appropriate repair and/or condition of repair specified in Inspection Table 2 of the Accomplishment Instructions of Airbus Service Bulletin A300-28-0077 or A300-28-6062, as applicable. At the times specified in Inspection Table 2, accomplish corrective actions (e.g., temporary or permanent repairs and follow-on inspections) in accordance with the applicable service bulletin. If any discrepancy is found during any follow-on inspection, prior to further flight, repair the discrepancy in accordance with the applicable service bulletin.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirrors, magnifying lenses, etc., may be used. Surface cleaning and elaborate access procedures may be required.”

Note 3: Modification accomplished prior to the effective date of this AD in accordance with Airbus Service Bulletin A300-28-0058, dated December 15, 1988, or Revision 01, dated October 1, 1991 (for Model A300 series airplanes); or A300-28-6020, dated December 15, 1988 (for Model A300-600 series airplanes); is considered acceptable for compliance with the action specified in paragraph (a)(1)(ii) of this AD.

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Service Bulletin A300-28-0077, dated July 19, 1999; Airbus Service Bulletin A300-28-0058, Revision 02, dated September 28, 1999; Airbus Service Bulletin A300-28-6062, dated July 19, 1999; or Airbus Service Bulletin A300-28-6020, Revision 01, dated September 28, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 1999-404-293(B), dated October 6, 1999.

Effective Date

(e) This amendment becomes effective on January 8, 2001.

Issued in Renton, Washington, on November 22, 2000.
Donald L. Riggin,
Acting Manager, Transport Airplane Directorate, Aircraft Certification Service.

[FR Doc. 00-30395 Filed 12-1-00; 8:45 am]

BILLING CODE 4910-13-P